FEDERAL COMMUNICATIONS COMMISSION

47 CFR Part 20

[WT Docket No. 00-110; FCC 00-327]

Compatibility with 911 Emergency Calling Systems; Compatibility with Enhanced 911 Emergency Calling Systems

AGENCY: Federal Communications Commission.

ACTION: Notice of proposed rulemaking.

SUMMARY: In this document the Commission seeks comment on how it should encourage and support deployment of comprehensive end-to-end emergency communications infrastructure and programs. The Commission has a statutory mandate to undertake such an effort in encouraging and supporting the States in their plans to achieve such deployment. Obtaining comment on the best course for the Commission to carry out its mandate will serve to achieve a coordinated, nationwide emergency communications network that integrates the latest technologies with improved emergency service to the public. In fulfilling its obligation, the Commission is not authorized to impose obligations or costs on any person.

DATES: Comments are due on or before October 16, 2000, and reply comments are due November 15, 2000. Public comment on the information collections are due October 19, 2000, and comments by the Office of Management and Budget are due January 17, 2001.

ADDRESSES: Send comments and reply comments to the Office of the Secretary, Federal Communications Commission, Washington, D.C. 20554. In addition to filing comments with the Secretary, a copy of any comments on the information collections contained herein should be submitted to Judy Boley, Federal Communications Commission, Room 1-C804, 445 12th Street, SW., Washington, DC 20554, or via the Internet to jboley@fcc.gov, and to Ed Springer, OMB Desk Officer, 10236 NEOB, 725—17th Street, NW., Washington, DC 20503 or via the Internet to Edward.Springer@omb.eop.gov.

FOR FURTHER INFORMATION CONTACT: David Siehl, 202-418-1310. For further information concerning the information collection contained in this Notice of Proposed Rulemaking, contact Judy Boley, Federal Communications Commission, 202-418-0214, or via the Internet at jboley@fcc.gov.

SUPPLEMENTARY INFORMATION: This is a summary of the Notice of Proposed Rulemaking portion (NPRM) in WT Docket No. 00-110; FCC 00-327, adopted August 24, 2000, and released August 29, 2000. The complete text of this decision is available for inspection and copying during normal business hours in the FCC Reference Information Center, Courtyard Level, 445 12th Street, SW., Washington, DC, and also may be purchased from the Commission's copy contractor, International Transcription Services (ITS, Inc.), CY-B400, 445 12th Street, SW., Washington, DC.

Synopsis of the Notice of Proposed Rulemaking

1. The Wireless Communications and Public Safety of 1999 (911 Act) seeks to achieve a coordinated, nationwide emergency communications network that integrates the latest technologies and ensures improved and prompt delivery of emergency services. To facilitate this goal, section 3(b) of the 911 Act directs the Commission to “encourage and support efforts by States to deploy comprehensive end-to-end emergency communications infrastructure and programs, based on coordinated statewide plans, including seamless, ubiquitous, reliable wireless telecommunications networks and enhanced wireless 911 service.” The Commission is directed to “encourage each State to develop and implement coordinated statewide deployment plans, through an entity designated by the governor, and to include representatives” of various relevant organizations and other stakeholders in the development and implementation of such plans. Although the 911 Act requires the Commission to “consult and cooperate with State and local officials” in its role of encouraging and supporting such deployment, the Commission is not authorized to “impose obligations or costs on any person.”

2. In this Notice of Proposed Rulemaking (NPRM), as a general matter, the Commission seeks comment on what measures it should undertake to encourage and support efforts by the States to deploy comprehensive emergency communications networks based on each State's coordinated plan. At the outset of this discussion, the Commission finds that section 3(b) reflects a careful balance between the need for Federal and State leadership and the responsibilities of local jurisdictions and others to provide 911 emergency services. Congress recognized that most of the key decisions in this area are not made by the Federal government, but by the private sector and State and local governments, and that implementation of 911 systems is carried out at the local level. The Commission finds, therefore, that the framework for implementation of the state plans and statewide emergency systems envisioned by the 911 Act should rely on the cooperation and coordination of all the interested parties. The Commission tentatively concludes that, under section 3(b), it may adopt provisions that facilitate the States' efforts through guidelines, fact sheets, meetings, or other information-sharing measures that do not impose obligations or costs or otherwise interfere with the careful balance of responsibilities. The Commission seeks comment on its tentative conclusion.

3. Initially, the Commission could satisfy its obligation to consult and cooperate with the listed parties in the development of state plans by convening a forum or other meetings to develop and disseminate information on 911 issues. The Commission believes that a record developed in such meetings might be useful in providing consultation and cooperation among the interested parties. As an initial matter, these meetings could be useful to discuss our current 911 rules. Further, such an approach also could entail coordination among designated entities from different States that share problems particular to their region and perhaps from specific rural or urban areas that overlap state boundaries. The Commission could invite, for example, attendance by representatives of the groups listed in the 911 Act, as well as other interested organizations or representatives. The Commission seeks comment on these tentative suggestions and any other approaches, such as a “Round Table” meeting on technical matters, which would provide effective means for consulting about or monitoring state plans. To enable the Commission to monitor technical developments that may assist the States in their efforts, the Commission also seeks comment on whether carriers are the best source of information on the status of deployment of statewide 911 services, and how such information might be gathered and shared.

4. In addition, the Commission could perform the function of a “clearinghouse,” both with regard to reporting information gathered at the meetings or elsewhere and indicating problems encountered in implementation of 911 infrastructures and programs, including the progress of the States in developing end-to-end systems and establishing their state plans, as well as the entities designated to develop statewide systems. In such a capacity, the Commission might gather information on the status of implementation of 911 across the country, and thus serve as a resource for entities designated by the governors, perhaps in conjunction with representative associations. Information about emerging technologies, including Automatic Crash Notification and other advance safety systems, could in this way be shared among the States and incorporated in the statewide plans. In addition, it may be useful to use the Commission's current E911 web site to make available 911 technical and implementation information, including information about other sources that may assist States and localities in developing their plans. (http:// www.fcc.gov//e911.) The Commission seeks comment on these proposals, including what information should be put on the Commission's E911 web site that would assist interested parties.

5. The Commission also seeks comment on what other forms of information the Commission could assist in providing that would be useful. For example, a “model” state plan could be developed. The Commission seeks comment on the process by which a “model” state plan could be developed in a manner that does not impose costs or obligations on any person. Finally, as a general matter, the Commission requests comment on what additional steps the States view as necessary to their development of state plans and on what kinds of support the States need from the Commission in order to achieve the statutory objectives of section 3(b).

Administrative Matters

6. Pursuant to applicable procedures set forth in §§ 1.415 and 1.419 of the Commission's Rules, interested parties may file comments in response to the NPRM on or before October 16, 2000, and reply comments on or before November 15, 2000. Comments and reply comments should be filed in combined CC Docket No. 92-105 and WT Docket No. 00-110 and should include a separate heading to identify the comments for each Docket Number. All relevant and timely comments will be considered by the Commission before final action is taken in this proceeding. To file formally, interested parties must file an original and four copies of all comments, reply comments, and supporting comments. If interested parties want each Commissioner to receive a personal copy of their comments, they must file an original plus nine copies. Interested parties should send comments and reply comments to the Office of the Secretary, Federal Communications Commission, Room TW-A325, 445 Twelfth Street, SW., Washington, DC 20554, with copies to David Siehl, Policy Division, Wireless Telecommunications Bureau, and Cheryl Callahan, Network Services Division, Common Carrier Bureau, at 445 Twelfth Street, SW., Washington, DC 20554. Comments also may be filed using the Commission's Electronic Comment Filing System (ECFS). Comments filed through the ECFS can be sent as an electronic file via the Internet to http://www.fcc.gov/e-mail/ecfs.html. Generally, only one copy of an electronic submission must be filed. In completing the transmittal screen, commenters should include their full name, Postal Service mailing address, and the applicable docket or rulemaking numbers. Parties also may submit an electronic comment by Internet E-Mail. To obtain filing instructions for E-Mail comments, commenters should send an e-mail to ecfs@fcc.gov, and should include the following words in the body of the message, “get form <your E-Mail address>.” A sample form and directions will be sent in reply. A copy of any comments on the information collection contained herein should be submitted to Judy Boley, Federal Communications Commission, Room 1-C804, 445 12th Street, SW., Washington, DC 20554, or via the Internet to jboley@fcc.gov.

Ex Parte Presentations

7. This NPRM is a permit-but-disclose notice and comment rulemaking proceeding. Members of the public, therefore, are advised that ex parte presentations are permitted, except during the Sunshine Agenda period, provided they are disclosed under the Commission's Rules.

Paperwork Reduction Act of 1995 Analysis

8. The actions proposed in this NPRM have been analyzed with respect to the Paperwork Reduction Act of 1995 and found to contain a new reporting requirement or burden on the public. Implementation of this new reporting requirement will be subject to approval by the Office of Management and Budget, as prescribed by the Act.

Initial Regulatory Flexibility Act Analysis—NPRM

9. The Initial Regulatory Flexibility Analysis (IRFA) in this NPRM is limited to matters addressed in the NPRM. This is a summary of the IRFA. The full IRFA may be found in Appendix B of the full text of this decision.

10. As required by the Regulatory Flexibility Act (RFA) (See 5 U.S.C. 603. The RFA, see 5 U.S.C 601 et seq. has been amended by the Contract With America Advancement Act of 1996, Public Law 104-121, 110 Stat. 847 (1996) (CWAAA). Title II of the CWAAA is the Small Business Regulatory Enforcement Fairness Act of 1996 (SBREFA). The Commission has prepared this present IRFA of the possible significant economic impact on small entities by the policies and rules proposed in this decision. Written public comments are requested on this IRFA. Comments must be identified as responses to the IRFA and must be filed by the deadlines for comments on the NPRM. The Commission will send a copy of the Notice of Proposed Rulemaking, including this IRFA, to the Chief Counsel for Advocacy or the Small Business Administration. See 5 U.S.C. 603(a).

A. Need for, and Objectives of, the Proposed Rules

11. The NPRM initiates a proceeding to address issues that are involved in implementing the (911 Act). The 911 Act seeks to achieve a coordinated, nationwide emergency communications network that integrates the latest technologies and ensures improved and prompt delivery of emergency services. Section 3(b) of the 911 Act directs the Commission to encourage and support efforts by the States to deploy comprehensive end-to-end emergency communications infrastructure and programs, based on coordinated statewide plans. The NPRM seeks comment on what measures the Commission should adopt to encourage and support those state efforts. The NPRM also seeks comment on how the Commission should satisfy its obligation to consult and cooperate with various stakeholders in the development of state plans. The Commission recognizes that it must balance its mandate of encouraging and supporting parties in their efforts with its Congressional directive not to impose obligations or costs on any person. The NPRM is intended to ensure that the Congressional goals for an expanded and improved nationwide emergency communications system are implemented expeditiously, effectively, and efficiently, thus saving and improving lives.

B. Legal Basis for Proposed Rules

12. The proposed action is authorized under sections 1, 4(i), 7, 10, 201, 202, 208, 214, 251(e)(3), 301, 303, 308, 309(j), and 310 of the Communications Act of 1934, 47 U.S.C. 151, 154(i), 157, 160, 201, 202, 208, 214, 251(e)(3), 301, 303, 308, 309(j), 310; and 47 U.S.C.A. 615.

C. Description and Estimate of the Number of Small Entities to Which the Proposed Rules Will Apply

13. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under section 3 of the Small Business Act, unless the Commission has developed one or more definitions that are appropriate for its activities. Under the Small Business Act, a “small business concern” is one that: (1) Is independently owned and operated; (2) is not dominant in its field of operation; and (3) satisfies any additional criteria established by the Small Business Administration (SBA). A small organization is generally “any not-for-profit enterprise which is independently owned and operated and is not dominant in its field.” Nationwide, as of 1992, there were approximately 275,801 small organizations.

14. The definition of “small governmental entity” is one with populations of fewer than 50,000. There are 85,006 governmental entities in the nation. This number includes such entities as States, counties, cities, utility districts and school districts. There are no figures available on what portion of this number has populations of fewer than 50,000. However, this number includes 38,978 counties, cities and towns, and of those, 37,556, or ninety-six percent, have populations of fewer than 50,000. The Census Bureau estimates that this ratio is approximately accurate for all government entities. Thus, of the 85,006 governmental entities, we estimate that ninety-six percent, or about 81,600, are small entities that may be affected by our rules.

15. Common Carrier Services and Related Entities. According to data in the most recent Trends in Telephone Service report, issued by the Commission, there are 4,144 interstate carriers. These carriers include, inter alia, local exchange carriers, wireline carriers and service providers, interexchange carriers, competitive access providers, operator service providers, pay telephone operators, providers of telephone toll service, providers of telephone exchange service, and resellers.

16. The SBA has defined establishments engaged in providing “Radiotelephone Communications” and “Telephone Communications, Except Radiotelephone” to be small businesses when they have no more than 1,500 employees.

17. We have included small incumbent LECs in this present IRFA analysis. The SBA's Office of Advocacy contends that, for RFA purposes, small incumbent LECs are not dominant in their field of operation because any such dominance is not “national” in scope. The Commission has therefore included small incumbent LEC's in this IRFA analysis, although the Commission emphasizes that this RFA action has no effect on FCC analyses and determinations in other non-RFA contexts.

18. Total Number of Telephone Companies Affected. The U.S. Bureau of the Census (Census Bureau) reports that, at the end of 1992, there were 3,497 firms engaged in providing telephone services, as defined therein, for at least one year. This number contains a variety of different categories of carriers, including local exchange carriers, interexchange carriers, competitive access providers, cellular carriers, mobile service carriers, operator service providers, pay telephone operators, covered specialized mobile radio providers, and resellers. It seems certain that some of these 3,497 telephone service firms may not qualify as small entities or small ILECs because they are not “independently owned and operated.” It is reasonable to conclude that fewer than 3,497 telephone service firms are small entity telephone service firms or small ILECs that may be affected by the actions proposed in this NPRM.

19. Wireline Carriers and Service Providers. The SBA has developed a definition of small entities for telephone communications companies except radiotelephone (wireless) companies. The Census Bureau reports that there were 2,321 such telephone companies in operation for at least one year at the end of 1992. According to the SBA's definition, a small business telephone company other than a radiotelephone company is one employing no more than 1,500 persons. All but 26 of the 2,321 non-radiotelephone companies listed by the Census Bureau were reported to have fewer than 1,000 employees. Thus, even if all 26 of those companies had more than 1,500 employees, there would still be 2,295 non-radiotelephone companies that might qualify as small entities or small ILECs. The Commission does not have data specifying the number of these carriers that are not independently owned and operated, and thus are unable at this time to estimate with greater precision the number of wireline carriers and service providers that would qualify as small business concerns under the SBA's definition. Consequently, the Commission estimates that fewer than 2,295 small telephone communications companies other than radiotelephone companies are small entities or small ILECs that may be affected by the actions proposed in this NPRM.

18. Local Exchange Carriers, Competitive Access Providers, Competitive Local Exchange Carriers. Neither the Commission nor the SBA has developed a definition for small providers of local exchange service, competitive access providers, or competitive local exchange carriers. The closest applicable definition under the SBA rules is for telephone communications companies other than radiotelephone (wireless) companies. According to the most recent telecommunications industry revenue data, 1,348 carriers reported that they were engaged in the provision of incumbent local exchange services, and 212 carriers reported that they were providing competitive access or competitive local exchange services. The Commission does not have data specifying the number of these carriers that are not independently owned and operated, or have more than 1,500 employees, and thus is unable at this time to estimate with greater precision the number of providers and carriers that would qualify as small business concerns under the SBA's definition. Consequently, the Commission estimates that fewer than 1,560 providers of local exchange service, or of competitive access or competitive local exchange services are small entities or small entities that may be affected by the actions proposed in this NPRM.

19. Interexchange Carriers. Neither the Commission nor the SBA has developed a definition of small entities specifically applicable to providers of interexchange services (IXCs). The closest applicable definition under the SBA rules is for telephone communications companies other than radiotelephone (wireless) companies. According to the most recent Trends in Telephone Service data, 171 carriers reported that they were engaged in the provision of interexchange services. The Commission does not have data specifying the number of these carriers that are not independently owned and operated or have more than 1,500 employees, and thus is unable at this time to estimate with greater precision the number of IXCs that would qualify as small business concerns under the SBA's definition. Consequently, the Commission estimates that there are fewer than 171 small entity IXCs that may be affected by the actions proposed in this NPRM.

20. A-Block LMDS Providers. The total number of A-block LMDS licenses is limited to 493, one for each Basic Trading Area. The Commission has held auctions for all 493 licenses, in which it defined “very small business” (average gross revenues for the three preceding years of not more than $15 million), “small business” (more than $15 million but not more than $40 million), and “entrepreneur” (more than $40 but not more than $75 million) bidders. There have been 99 winning bidders that qualified in these categories in these auctions all of which may be affected by the actions proposed in this NPRM.

21. 220 MHz Radio Service—Phase I Licensees. The 220 MHz service has both Phase I and Phase II licenses. Phase I licensing was conducted by lotteries in 1992 and 1993. There are approximately 1,515 such non-nationwide licensees and four nationwide licensees currently authorized to operate in the 220 MHz band. The Commission has not developed a definition of small entities specifically applicable to such incumbent 220 MHz Phase I licensees. To estimate the number of such licensees that are small businesses, the Commission applies the definition under the SBA rules applicable to Radiotelephone Communications companies. This definition provides that a small entity is a radiotelephone company employing no more than 1,500 persons. According to the Bureau of the Census, only 12 radiotelephone firms out of a total of 1,178 such firms which operated during 1992 had 1,000 or more employees. Therefore, if this general ratio continues in 1999 in the context of Phase I 220 MHz licensees, the Commission estimates that nearly all such licensees are small businesses under the SBA's definition.

22. 220 MHz Radio Service—Phase II Licensees. The Phase II 220 MHz service is a new service, and is subject to spectrum auctions. The Commission has adopted criteria for defining small businesses and very small businesses for purposes of determining their eligibility for special provisions such as bidding credits and installment payments. The Commission has defined a small business as an entity that, together with its affiliates and controlling principals, has average gross revenues not exceeding $15 million for the preceding three years. Additionally, a very small business is defined as an entity that, together with its affiliates and controlling principals, has average gross revenues that are not more than $3 million for the preceding three years. The SBA has approved these definitions. The Commission has held two auctions for Phase II licenses for the 220 MHz band. Fifty-three (53) winning bidders qualified as small or very small entities.

23. Private and Common Carrier Paging. The Commission has proposed a two-tier definition of small businesses in the context of auctioning licenses in the Common Carrier Paging and exclusive Private Carrier Paging services. Under the proposal, a small business will be defined as either (1) an entity that, together with its affiliates and controlling principals, has average gross revenues for the three preceding years of not more than $3 million, or (2) an entity that, together with affiliates and controlling principals, has average gross revenues for the three preceding calendar years of not more than $15 million. Because the SBA has not yet approved this definition for paging services, the Commission will utilize the SBA's definition applicable to radiotelephone companies, i.e., an entity employing no more than 1,500 persons. At present, there are approximately 24,000 Private Paging licenses and 74,000 Common Carrier Paging licenses. According to the most recent Carrier Locator Interstate Service Providers data, 303 carriers reported that they were engaged in the provision of paging and messaging. The Commission does not have data specifying the number of these carriers that are not independently owned and operated or have more than 1,500 employees, and thus are unable at this time to estimate with greater precision the number of paging carriers that would qualify as small business concerns under the SBA's definition. Consequently, the Commission estimates that there are fewer than 303 small paging carriers that may be affected by the rules. The Commission estimates that the majority of private and common carrier paging providers would qualify as small entities under the SBA definition.

24. Mobile Service Carriers. Neither the Commission nor the SBA has developed a definition of small entities specifically applicable to mobile service carriers, such as paging companies. The closest applicable definition under the SBA rules is that for radiotelephone (wireless) companies, and the most recent Carrier Locator Interstate Service Providers data shows that 142 carriers reported that they were engaged in the provision of SMR dispatching and “other mobile” services. Consequently, the Commission estimates that there are fewer than 142 small mobile service carriers that may be affected by the proposed rules.

25. Broadband Personal Communications Service (PCS). The broadband PCS spectrum is divided into six frequency blocks designated A through F, and the Commission has held auctions for each block. The Commission defined “small entity” for Blocks C and F as an entity that has average gross revenues of less than $40 million in the three previous calendar years. For Block F, an additional classification for “very small business” was added and is defined as an entity that, together with their affiliates, has average gross revenues of not more than $15 million for the preceding three calendar years. These regulations defining “small entity” in the context of broadband PCS auctions have been approved by the SBA. No small businesses within the SBA-approved definition bid successfully for licenses in Blocks A and B. There were 90 winning bidders that qualified as small entities in the Block C auctions. A total of 93 small and very small business bidders won approximately 40% of the 1,479 licenses for Blocks D, E, and F. Based on this information, the Commission concludes that the number of small broadband PCS licensees will include the 90 winning C Block bidders and the 93 qualifying bidders in the D, E, and F blocks, for a total of 183 small entity PCS providers as defined by the SBA and the Commission's auction rules.

26. Narrowband PCS. The Commission has auctioned nationwide and regional licenses for narrowband PCS. There are 11 nationwide and 30 regional licensees for narrowband PCS. The Commission does not have sufficient information to determine whether any of these licensees are small businesses within the SBA-approved definition for radiotelephone companies. At present, there have been no auctions held for the major trading area (MTA) and basic trading area (BTA) narrowband PCS licenses. The Commission anticipates a total of 561 MTA licenses and 2,958 BTA licenses will be awarded by auction. Such auctions have not yet been scheduled, however. Given that nearly all radiotelephone companies have no more than 1,500 employees and that no reliable estimate of the number of prospective MTA and BTA narrowband licensees can be made, the Commission assumes, for purposes of this IRFA, that all of the licenses will be awarded to small entities, as that term is defined by the SBA.

27. Rural Radiotelephone Service. The Commission has not adopted a definition of small entity specific to the Rural Radiotelephone Service. A significant subset of the Rural Radiotelephone Service is the Basic Exchange Telephone Radio Systems. The Commission uses the SBA's definition applicable to radiotelephone companies, i.e., an entity employing no more than 1,500 persons. There are approximately 1,000 licensees in the Rural Radiotelephone Service, and the Commission estimates that almost all of them qualify as small entities under the SBA's definition.

28. Air-Ground Radiotelephone Service. The Commission has not adopted a definition of small entity specific to the Air-Ground Radiotelephone Service. Accordingly, the Commission will use the SBA's definition applicable to radiotelephone companies, i.e., an entity employing no more than 1,500 persons. There are approximately 100 licensees in the Air-Ground Radiotelephone Service, and the Commission estimates that almost all of them qualify as small under the SBA definition.

29. Specialized Mobile Radio (SMR). The Commission awards bidding credits in auctions for geographic area 800 MHz and 900 MHz SMR licenses to firms that had revenues of no more than $15 million in each of the three previous calendar years. In the context of both 800 MHz and 900 MHz SMR, this regulation defining “small entity” has been approved by the SBA; and the Commission has also received approval concerning 800 MHz SMR.

30. The proposed rules in the NPRM apply to SMR providers in the 800 MHz and 900 MHz bands that hold CMRS licenses. The Commission does not know how many firms provide 800 MHz or 900 MHz geographic area SMR service as CMRS operators, nor how many of these providers have annual revenues of no more than $15 million. One firm has over $15 million in revenues. The Commission assumes, for purposes of this IRFA, that all of the remaining existing SMR authorizations are held by small entities, as that term is defined by the SBA. For geographic area licensees in the 900 MHz SMR band there are 60 who qualified as small entities.

31. Offshore Radiotelephone Service. This service operates on several UHF TV broadcast channels that are not used for TV broadcasting in the coastal area of the States bordering the Gulf of Mexico. At present, there are approximately 55 licensees in this service. The Commission is unable at this time to estimate the number of licensees that would qualify as small under the SBA's definition for radiotelephone communications.

D. Description of Projected Reporting, Recordkeeping, and Other Compliance Requirements

32. The NPRM seeks comment on what measures may be necessary to implement the provisions of section 3(b) of the 911 Act, and on the Commission's tentative conclusion that it may adopt measures that facilitate the efforts of the States in their deployment of comprehensive emergency communications networks. Actual reporting, recordkeeping, and compliance requirements will depend on what the Commission ultimately adopts. Based on the proposals contained in the NPRM, the Commission finds several possible compliance requirements. First, the 911 Act mandates that each State “develop and implement coordinated statewide deployment plans. * * *” It may thus be necessary for various involved parties, including the carriers and the PSAPs, to communicate regularly both orally and in person. The Commission might assist in these cooperative efforts by scheduling round table discussions or acting as a clearinghouse for information. The parties may be asked to participate by providing, for example, available information on the status of the implementation of 911 infrastructures and programs, and by contributing to a process in which the Commission could assist in providing information, possibly for the development of a “model” state plan. Also, to ensure compliance with the statutory objectives of section 3(b), the Commission could conceivably request that these plans be submitted to the Commission for review. These issues are discussed in paragraphs 24-27 of the NPRM.

E. Steps Taken To Minimize Significant Economic Impact on Small Entities, and Significant Alternatives Considered

33. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

34. Because of the critical life and death nature of the issues at stake in implementing 911 as a national emergency number, it is important that all parties involved, large or small, participate equally in the 911 program. The NPRM takes note, however, of Congressional recognition that most of the key decisions in improving 911 service are not made by the Federal government but by the private sector and State and local governments, and implementation of 911 systems is carried out at the local level. Therefore, instead of proposing that the Commission play a strong regulatory role in 911 implementation, the NPRM seeks comment on different measures that could possibly be taken as part of a framework for deployment of comprehensive emergency systems based on statewide plans and that are based on the cooperation and coordination of all the interested parties, with the encouragement and support of the Commission.

35. Rather than proposing that the various parties coordinate among themselves and report back to the Commission with the result of their efforts, the NPRM, as indicated in paragraph 25, seeks comment on whether the Commission could satisfy its obligation to consult and cooperate by convening a forum or other meetings to develop and disseminate information on 911 issues. The Commission believes that this could help the coordination process by bringing together the designated entities from different States that share problems particular to their region and perhaps from specific rural or urban areas that overlap state boundaries. Also, paragraph 26 sets forth, the Commission proposes that it could perform a “clearinghouse” function, providing a common point for locating necessary information and indicating the problems encountered and the progress made. Finally, as a general matter, the NPRM solicits comment on steps the States view as necessary to their development of state plans and what kinds of support they need from the Commission in order to achieve the statutory objectives of section 3(b).

F. Federal Rules that May Duplicate, Overlap, or Conflict With the Proposed Rules

36. None.

Ordering Clauses

37. Pursuant to sections 1, 4(i), 4(j), 7, 10, 201, 202, 208, 214, 301, 303, 308, 309(j), and 310 of the Communications Act of 1934, as amended, 47 U.S.C. 151, 154(i), 154(j), 157, 160, 201, 202, 208, 214, 301, 303, 308, 309(j), and 310; and U.S.C.A 615, the Notice of Proposed Rulemaking in WT Docket No. 00-110 is adopted.

38. The Commission's Consumer Information Bureau, Reference Information Center, shall send a copy of this NPRM, including the associated Initial Regulatory Flexibility Analysis, to the Chief Counsel for Advocacy of the Small Business Association.

Paperwork Reduction Act

39. This NPRM contains a new information collection. The Commission, as part of its continuing effort to reduce paperwork burdens, invites the general public to comment on the information collections contained in this NPRM, as required by the Paperwork Reduction Act of 1995, Public Law 104-13. Public and agency comments are due November 20, 2000. OMB comments are due January 17, 2001. Comments should address: (a) Whether the new collection of information is necessary for the proper performance of the functions of the Commission, including whether the information shall have practical utility; (b) the accuracy of the Commission's burden estimates; (3) ways to enhance the quality, utility, and clarity of the information collected; and (4) ways to minimize the burden of the collection of information on the respondents, including the use of automated collection techniques or other forms of information technology.

OMB Approval Number: N.A.

Title: Enhanced 911 Emergency Calling Systems, NPRM.

Form No. N.A.

Type of Review: New information collection.

Respondents: Business or other for profit, non-profit.

Number of Respondents: 200,000.

Estimated Time Per Response: 11 hours.

Total Annual Burden: 10,982,470 hours.

Cost to Respondents: 0.

Needs and Uses: The proposed burdens contained in this NPRM would be used by the Commission to satisfy its legislative mandate to consult and cooperate with the affected parties, and to offer encouragement and support to the parties in their efforts to achieve a cohesive transmission to full 911 emergency communications service.

Ordering Clauses

40. Pursuant to sections 1, 4(i), 4(j), 7, 10, 201, 202, 208, 214, 251(e)(3), 301, 303, 308, 309(j), and 310 of the Communications Act of 1934, as amended, 47 U.S.C. 151, 154(i), 154(j), 157, 160, 201, 202, 208, 214, 251(e)(3), 301, 303, 308, 309(j), and 310, the NPRM in WT Docket No. 00-110 is hereby adopted.

41. The Commission's Consumer Information Bureau, Reference Information Center, shall send a copy of this NPRM, including the IRFA, to the Chief Counsel for Advocacy of the Small Business Association.

Federal Communications Commission.
William F. Caton,
Deputy Secretary.

[FR Doc. 00-24112 Filed 9-18-00; 8:45 am]

BILLING CODE 6712-01-P